FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 2, 2021.

A. Federal Reserve Bank of Minneapolis (Chris P. Wangen, Assistant Vice President), 90 Hennepin Avenue, Minneapolis, Minnesota 55480-0291:

1. Daniel J. Heike and Heidi R. Weber, both of Mondovi, Wisconsin; Sarah E. Robertson, Eau Claire, Wisconsin; and the Frederick Arthur Roberston III Living Trust, Frederick A. Robertson III, as trustee, both of Madison, Wisconsin; to become members of the Heike Family Control Group, a group acting in concert, to retain voting shares of Gebsco, Inc., and thereby indirectly retain voting shares of Alliance Bank, both of Mondovi, Wisconsin.

A. Federal Reserve Bank of Cleveland (Mary S. Johnson, Vice President) 1455 East Sixth Street, Cleveland, Ohio 44101-2566. Comments can also be sent electronically to Comments.applications@clev.frb.org:

1. Raymond B. Coors, Jr. and Dianne D. Coors, both of Naples, Florida; Martha B. Coors, Loveland, Ohio; Melissa Hoffman, Maineville, Ohio; the Raymond B. Coors, Jr. Non-GST Trust and Raymond B. Coors, Jr. GST Trust, the Martha B. Coors Non-GST Trust and Martha B. Coors GST Trust, the Melissa Hoffman Trust, the Lisa A. Coors Trust, the John A. Coors Trust, the Mary Ann Coors Trust, and the Janet Cottingham Trust, all of Naples, Florida, with Raymond B. Coors, Jr., and Martha B. Coors as co-trustees; all as members of the Coors Family group, a group acting in concert, to retain voting shares of The North Side Bank and Trust Company, Cincinnati, Ohio.

Board of Governors of the Federal Reserve System, May 12, 2021.
Ann Misback,
Secretary of the Board.

[FR Doc. 2021-10363 Filed 5-17-21; 8:45 am]

BILLING CODE P